ENVIRONMENTAL PROTECTION AGENCY

40 CFR Part 62

[Docket No. CT-055-7214a; FRL—6577-3]

Approval and Promulgation of State Plans for Designated Facilities and Pollutants: Connecticut; Plan for Controlling MWC Emissions From Existing MWC Plants

AGENCY: Environmental Protection Agency (EPA).

ACTION: Direct final rule.

SUMMARY: The Environmental Protection Agency (EPA) approves the sections 111(d)/129 State Plan submitted by the Connecticut Department of Environmental Protection (CTDEP) on October 1, 1999. This State Plan implements and enforces provisions at least as protective as the Emissions Guidelines (EGs) applicable to existing Municipal Waste Combustors (MWCs) units with capacity to combust more than 250 tons/day of municipal solid waste (MSW).

DATES: This direct final rule is effective on June 20, 2000, without further notice unless EPA receives significant, material and adverse comment by May 22, 2000. If EPA receives adverse comment, we will publish a timely withdrawal of the direct final rule in the Federal Register and inform the public that the rule will not take effect.

ADDRESSES: You should address your written comments to: Mr. John Courcier, Acting Manager, Air Permits Unit, Office of Ecosystem Protection, U.S. EPA—New England, Region 1, One Congress Street, Suite 1100 (CAP), Boston, Massachusetts 02114-2023.

Documents which EPA has incorporated by reference are available for public inspection at the Air and Radiation Docket and Information Center, Environmental Protection Agency, 401 M Street, SW, Washington, DC 20460. You may examine relevant copies of materials the DEP submitted to EPA during normal business hours at the following locations. The interested persons wanting to examine these documents should make an appointment with the appropriate office at least 24 hours before the day of the visit.

Environmental Protection Agency—New England, Region 1, Air Permits Unit, Office of Ecosystem Protection, Suite 1100, One Congress Street, Boston, Massachusetts 02114-2023.

Connecticut Department of Environmental Protection, Bureau of Air Management, Planning and Standards Division, 79 Elm Street, Hartford, Connecticut 06106-5127, (860) 424-3026.

FOR FURTHER INFORMATION CONTACT: John Courcier at (617) 918-1659.

SUPPLEMENTARY INFORMATION:

Table of Contents

I. What Action Is EPA Taking Today?

II. When Did These Requirements First Become Known?

III. When Does the State Plan Become Effective?

IV. What Happens to the Federal Plan After the Effective Date of the State Plan?

V. Who Must Comply With the Requirements?

VI. By What Date Must MWCs in Connecticut Achieve Compliance?

VII. MWC Operators Must Control Which Pollutants?

VIII. What Emission Controls Are Necessary To Achieve Compliance?

IX. What Happens if an MWC Does Not/Cannot Meet the Requirements by the Final Compliance Date?

X. What Did the State Submit as Part of Its State Plan?

XI. How Did the State Show That its Plan is Approvable?

XII. What is Connecticut's Nitrogen Oxides (NOX) Emissions Trading Program?

XIII. Is Connecticut's NOX Emissions Trading Program Approvable?

XIV. When Did EPA Publish the Rules?

XV. Why Does EPA Need to Approve State Plans?

XVI. Administrative Requirements

I. What Action Is EPA Taking Today?

EPA is approving the above referenced State Plan. EPA is publishing this approval action without a prior proposal because the Agency views this as a noncontroversial action and anticipates no adverse comments. However, in the proposed rules section of this Federal Register publication, EPA is publishing a separate document that will serve as the proposal to approve the State Plan should anyone file relevant adverse comments. If EPA receives no significant, material, and adverse comments by May 22, 2000, this action will be effective June 20, 2000.

If EPA receives significant, material, and adverse comments by the above date, we will withdraw this action before the effective date by publishing a subsequent document in the Federal Register that will withdraw this final action. EPA will address all public comments received in a subsequent final rule based on the parallel proposed rule published in today's Federal Register. EPA will not begin a second comment period on this action. Any parties interested in commenting on this action should do so at this time. If EPA receives no comments, this action will be effective June 20, 2000.

EPA's approval of CTDEP's State Plan is based on our findings that:

(1) CTDEP provided adequate public notice of public hearings for the proposed rule-making that allows Connecticut to carry out and enforce provisions that are at least as protective as the EGs for large MWCs, and

(2) CTDEP demonstrated its legal authority to adopt emission standards and compliance schedules applicable to the designated facilities; enforce applicable laws, regulations, standards and compliance schedules; seek injunctive relief; obtain information necessary to determine compliance; require record keeping; conduct inspections and tests; require the use of monitors; require emission reports of owners and operators; and make emission data publicly available.

II. When Did These Requirements First Become Known?

Some form of the EGs was first published in the Federal Register in 1989. On December 19, 1995, according to sections 111 and 129 of the Clean Air Act (Act), the EPA published the current form of the EGs applicable to existing MWCs. The EGs are at 40 CFR part 60, subpart Cb. See 60 FR 65387 and the Background section.

III. When Does the State Plan Become Effective?

This direct final rule is effective on June 20, 2000, without further notice unless as explained under I. above, EPA receives adverse comment by May 22, 2000.

IV. What Happens to the Federal Plan After the Effective Date of the State Plan?

The Federal Plan is an interim action. On the effective date of this action, the Federal Plan will no longer apply to MWC units covered by the State Plan.

V. Who Must Comply With the Requirements?

The State Plan affects all MWCs:

1. With a combustion capacity greater than 250 tons per day of municipal solid waste (large MWC units), and

2. Which commenced construction on or before September 20, 1994 (existing MWC units).

CTDEP submitted its Plan after the Court of Appeals vacated 40 CFR part 60, subpart Cb as it applies to small MWC units. Thus, the Connecticut State Plan, as approved by EPA, covers only large, existing MWC units. Small and new units are not subject to the requirements of subpart Cb and not subject to this approval.

VI. By What Date Must MWCs in Connecticut Achieve Compliance?

All existing large MWC units in the state of Connecticut must comply with these emission standards by December 19, 2000.

VII. MWC Operators Must Control Which Pollutants?

Subpart Cb regulates the following pollutants: particulate matter, opacity, sulfur dioxide, hydrogen chloride, oxides of nitrogen, carbon monoxide, lead, cadmium, mercury, and dioxin and dibenzofurans.

VIII. What Emission Controls Are Necessary To Achieve Compliance?

The basis for control of each pollutant is as follows:

a. for PM, opacity, Cd, Pb, and Hg | GCP and SD/ESP/CI, or GCP and SD/FF/CI;
b. for dioxin/furan | GCP and SD/ESP, or GCP and SD/FF;
c. for SO2 and HCl | GCP and SD/ESP, or GCP and SD/FF;
d. for NOX | SNCR.

GCP—good combustion practice

SD—spray dryer

ESP—electrostatic precipitator

FF—fabric filter

CI—carbon injection

SNCR—selective noncatalytic reduction

IX. What Happens if an MWC Does Not/Cannot Meet the Requirements by the Final Compliance Date?

Any existing large MWC unit that fails to meet the requirements by December 19, 2000 must shut down. The unit cannot start up until the owner/operator installs the controls necessary to meet the requirements.

X. What Did the State Submit as Part of Its State Plan?

The CTDEP submitted to EPA on October 1, 1999 the following sections 111(d)/129 State Plan components for carrying out and enforcing the EGs for existing MWCs in the State: Legal Authority; Emission Standards and Limitations; Compliance Schedule; MWC Emissions and MWC Plant/Unit Inventories; Procedures for Testing and Monitoring Sources of Air Pollutants; Source Surveillance, Compliance Assurance and Enforcement; Demonstration That the Public Had Adequate Notice and Opportunity to Submit Written Comments and Public Hearing Summary; and applicable State regulations (CTDEP regulations section 22a-174-38).

The State excluded from the State Plan the provision requiring compliance with a mercury emission limit of 0.028 mg/dscm, or 85% reduction by weight. Accordingly, only the limit of 0.080 mg/dscm, or 85% reduction by weight is included in the State Plan.

Also, as part of its MWC regulations, CT included a nitrogen oxides (NOX) emissions trading program. Basically, the program allows MWCs that commenced construction before December 20, 1989, and therefore are not subject to the NSPS, to use NOX credits to comply with the NOX emission limits of subsection (c) of the regulation. The regulation allows MWCs constructed after December 20, 1989 to participate in the NOX credit trading program. However, such sources may not use credits to meet the NOX limits but may only generate credits if emissions are below the applicable limits and lower than the source's trading baseline.

The trading program regulations define the methodology and formulas for determining, on a daily basis, the quantity of credit that a unit generates or uses, including the recordkeeping and reporting requirements. The trading program regulations define the trading baseline as well as the credit quantification procedures. The program regulations also define violations and penalty provisions for MWC sources that do not meet the NOX emission limits or fail to acquire sufficient credits to meet the limits on a daily basis.

XI. How Did the State Show That Its Plan is Approvable?

In section II of Connecticut's Plan, CTDEP states that the Connecticut General Assembly has granted the Commissioner of the CTDEP broad general authority to carry out his duties to protect the environment. In addition, this section documents the CTDEP's authority to: (1) Adopt emission standards and compliance schedules; (2) enforce applicable laws, regulations, standards and compliance schedules; (3) seek injunctive relief; (4) obtain information necessary to determine compliance; (5) require recordkeeping; (6) conduct inspections; (7) conduct compliance tests; (8) require the use of monitors; (9) require emission reports; and (10) make emissions data available to the public.

In Section III of the State Plan, CTDEP identifies a new regulation, Regulations of Connecticut State Agencies (R.S.C.A.) section 22a-174-38 for Municipal Waste Combustors (Appendix A of the Plan) and the part 70, Title V permit as the enforceable mechanisms. EPA is approving the standards and limitations under section 22a-174-38 for being at least as protective as the Federal requirements contained in subpart Cb for existing large MWC units.

In its State Plan and MWC regulations, CTDEP established a compliance schedule and legally enforceable increments of progress for each large MWC. EPA has reviewed and approved this portion of the State Plan for being at least as protective as Federal requirements for existing large MWC units.

In Section IV of the State Plan, CTDEP listed the five Designated Facilities that make up the MWC unit inventory for Connecticut. CTDEP also included a Table 2 in its Plan that contains the emissions data for Connecticut's MWCs. EPA reviewed and approved this portion of the Plan as meeting the Federal requirements for existing large MWC units. Although section 22a-174-38 regulates both existing MWCs and MWCs constructed after September 20, 1994, this action approves the State Plan only for the purpose of regulating existing large MWC units. The provisions of section 22a-174-38 which apply to new units (constructed after September 20, 1994) are not approved as part of the State Plan.

In Section V of the State Plan, CTDEP describes the emission limits and other requirements of R.S.C.A. Section 22a-174-38. EPA has determined that the applicable requirements of Section 22a-174-38 are at least as protective as the EGs.

In section V of the State Plan, CTDEP states that section 22a-174-38(m) requires MWC owners and operators to comply with any compliance schedules.

In section VII of the State Plan, CTDEP describes its legal authority to require owners and operators of designated facilities to maintain records and report to the State the nature and amount of emissions and any other information necessary to enable the State to judge the compliance status of the affected facilities. Section 22a-174-38 differs significantly from the EGs in that the State requires quarterly, rather than semiannual, reports of instances in which an MWC exceeds emission standards. CTDEP also cites its legal authority to provide periodic inspection and testing and provisions for making reports of MWC emissions data, correlated with applicable emission standards, available to the public. EPA reviewed and approved these State requirements for being at least as protective as the Federal requirements for existing large MWC units.

In section VIII of the State Plan, CTDEP describes the record of the public hearing process. Appendix D of the State Plan contains the pertinent information. EPA reviewed and approved this portion of the Plan as meeting the minimum Federal public hearing requirements for a State Plan.

In section IX of the State Plan, CTDEP states it commitment to provide annual progress reports to EPA. The reports will include such things as the compliance status, enforcement actions, increments of progress, identification of sources that have ceased operation or started operation, contingency plan actions, any plan revisions, emission inventory information for sources that have started operation, updated emission inventory and compliance information, and copies of technical reports on all performance testing and monitoring, including concurrent process data.

XII. What is Connecticut's Nitrogen Oxides (NOX) Emissions Trading Program?

As part of the MWC control program regulations, CT included a nitrogen oxides (NOX emissions trading program. Basically, the program allows MWCs that commenced construction before December 20, 1989, and therefore are not subject to the NSPS, to use NOX credits to comply with the NOX emission limits of subsection (c) of the regulation. The regulation allows MWCs constructed after December 20, 1989 to participate in the NOX credit trading program. However, such sources may not use credits to meet the NOX limits but may only generate credits if emissions are below the applicable limits and lower than the source's trading baseline.

The trading program regulations define the methodology and formulas for determining, on a daily basis, the quantity of credit that a unit generates or uses, including the recordkeeping and reporting requirements. The trading program regulations define the trading baseline as well as the credit quantification procedures. The program regulations also define violations and penalty provisions for MWC sources that do not meet the NOX emission limits or fail to acquire sufficient credits to meet the limits on a daily basis.

XIII. Is Connecticut's NOX Emissions Trading Program Approvable?

In EPA's guidelines, EPA allowed states to include a NOX emission credit trading program as part of the NOX control portion of its MWC regulations. The guideline states that such NOX emissions trading must be approved by EPA.

EPA has reviewed subsection (d) of section 22a-174-38. EPA finds CT's NOX emissions trading program approvable as an emissions trading program for MWCs according to the EPA's EIP rules, 40 CFR part 51, subpart 51.490 through 51.493. The regulations under section 22a-174-38(d) adequately define the applicability of the program; the state program requirements, such as the program scope; source specific requirements, such as credit calculation procedures, emissions monitoring, recordkeeping, reporting, and compliance requirements; as well as the administrative requirements, schedule, and the enforcement and penalty mechanisms. Additionally, CTDEP currently conducts annual trading program audits which include an accounting of the credits created and used by MWCs. Furthermore, EPA finds that the emissions quantification protocols for credit creation and use under subsection (d)(4) are fully approvable as generic protocols for MWC units to create or use NOX credits. In this way, upon approval of this regulation, NOX credits created using the creation formula in that subsection will be considered federally enforceable for other purposes under CT regulations, e.g., for compliance with NOX RACT limits under section 22a-174-22.

XIV. When Did EPA Publish the Rules?

On December 19, 1995, according to sections 111 and 129 of the Clean Air Act (Act), EPA issued new source performance standards (NSPS) applicable to new MWCs and emissions guidelines (EGs) applicable to existing MWCs. The NSPS and EGs are codified at 40 CFR part 60, subparts Eb and Cb, respectively. See 60 FR 65387. Subparts Cb and Eb regulate the following: particulate matter, opacity, sulfur dioxide, hydrogen chloride, oxides of nitrogen, carbon monoxide, lead, cadmium, mercury, and dioxin and dibenzofurans.

On April 8, 1997, the United States Court of Appeals for the District of Columbia Circuit vacated subparts Cb and Eb as they apply to MWC units with capacity to combust less than or equal to 250 tons/day of MSW (small MWCs), consistent with its opinion in Davis County Solid Waste Management and Recovery District v. EPA, 101 F.3d 1395 (D.C. Cir. 1996), as amended, 108 F.3d 1454 (D.C. Cir. 1997). As a result, subparts Eb and Cb apply only to MWC units with individual capacity to combust more than 250 tons/day of municipal solid waste (large MWC units).

XV. Why Does EPA Need To Approve State Plans?

Under section 129 of the Act, EGs are not federally enforceable. Section 129(b)(2) of the Act requires states to submit State Plans to EPA for approval. Each state must show that its State Plan will carry out and enforce the EGs. State Plans must be at least as protective as the EGs, and they become federally enforceable upon EPA's approval.

The procedures for adopting and submitting State Plans are in 40 CFR part 60, subpart B. EPA originally issued the subpart B provisions on November 17, 1975. EPA amended subpart B on December 19, 1995, to allow the subparts developed under section 129 to include specifications that supersede the general provisions in subpart B regarding the schedule for submittal of State Plans, the stringency of the emission limitations, and the compliance schedules. See 60 FR 65414.

XVI. Administrative Requirements

A. Executive Order 12866

The Office of Management and Budget (OMB) has exempted this regulatory action from Executive Order 12866, entitled “Regulatory Planning and Review.”

B. Executive Order 13132

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

Under section 129 of the Act, EPA is required to approve State Plans that meet the criteria of the statute. Furthermore, this final rule will not have substantial direct effects on the States, on the relationship between the national government and the States, or on the distribution of power and responsibilities among the various levels of government, as specified in Executive Order 13132, because it merely approves a state rule implementing a federal standard, and does not alter the relationship or the distribution of power and responsibilities established in the Clean Air Act. Thus, the requirements of section 6 of the Executive Order do not apply to this rule.

C. Executive Order 13045

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks that EPA has reason to believe may have a disproportionate effect on children.

D. Executive Order 13084

Under Executive Order 13084, EPA may not issue a regulation that is not required by statute, that significantly affects or uniquely affects the communities of Indian tribal governments, and that imposes substantial direct compliance costs on those communities, unless the Federal government provides the funds necessary to pay the direct compliance costs incurred by the tribal governments. If the mandate is unfunded, EPA must provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected and other representatives of Indian tribal governments “to provide meaningful and timely input in the development of regulatory policies on matters that significantly or uniquely affect their communities.”

Today's action does not create any new requirements on any entity affected by this State Plan. Thus, the action will not significantly or uniquely affect the communities of Indian tribal governments. Accordingly, the requirements of section 3(b) of Executive Order 13084 do not apply to this rule.

E. Regulatory Flexibility Act

Under the Regulatory Flexibility Act, 5 U.S.C. 600 et seq., EPA must prepare a regulatory flexibility analysis assessing the impact of any proposed or final rule on small entities. 5 U.S.C. 603 and 604. Alternatively, EPA may certify that the rule will not have a significant impact on a substantial number of small entities. Small entities include small businesses, small not-for-profit enterprises, and government entities with jurisdiction over populations of less than 50,000.

State Plan approvals under section 111(d) and section 129(b)(2) of the Clean Air Act do not create any new requirements on any entity affected by this rule, including small entities. They simply approve requirements that the state is already imposing. Furthermore, in developing the MWC EGs and standards, EPA prepared a written statement pursuant to the Regulatory Flexibility Act which it published in the 1995 promulgation notice (see 60 FR 65413). In accordance with EPA's determination in issuing the 1995 MWC EGs, this State Plan does not include any new requirements that will have a significant economic impact on a substantial number of small entities. Therefore, because the Federal 111(d) Plan approval does not impose any new requirements and pursuant to section 605(b) of the Regulatory Flexibility Act, the Regional Administrator certifies that this rule will not have a significant impact on a substantial number of small entities.

F. Unfunded Mandates

Under section 202 of the Unfunded Mandates Reform Act of 1995 (“Unfunded Mandates Act”), signed into law on March 22, 1995, EPA must prepare a budgetary impact statement to accompany any proposed or final rule that includes a Federal mandate that may result in estimated costs to State, local, or tribal governments in the aggregate, or to the private sector, of $100 million or more. Under section 205, EPA must select the most cost-effective and least burdensome alternative that achieves the objectives of the rule and is consistent with statutory requirements. Section 203 requires EPA to establish a plan for informing and advising any small governments that may be significantly or uniquely impacted on by the rule.

In developing the MWC EGs and standards, EPA prepared a written statement pursuant to section 202 of the Unfunded Mandates Act which it published in the 1995 promulgation notice (see 60 FR 65405 to 65412). The EPA has determined that this State Plan does not include any new Federal mandates above those previously considered during promulgation of the 1995 MWC guidelines. In approving the State Plan, EPA is approving pre-existing requirements under State law and imposing no new requirements. Accordingly, no additional costs to State, local, or tribal governments, or to the private sector, result from EPA's approval of State Plan provisions, nor will EPA's approval of the State Plan significantly or uniquely affect small governments. Thus, this action is not subject to the requirements of sections 202, 203, 204, and 205 of the Unfunded Mandates Act.

G. Submission to Congress and the General Accounting Office

Under 5 U.S.C. section 801(a)(1)(A), as amended by the Small Business Regulatory Enforcement Fairness Act of 1996, EPA submitted a report containing this rule and other required information to the U.S. Senate, the U.S. House of Representatives, and the Comptroller General of the General Accounting Office prior to publication of the rule in today's Federal Register. This rule is not a “major rule” as defined by 5 U.S.C. section 804(2).

H. National Technology Transfer and Advancement Act

Section 12(d) of the National Technology Transfer and Advancement Act of 1995 (“NTTAA”), Pub. L. 104-113, section 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus bodies. The NTTAA directs EPA to provide Congress, through OMB, explanations when the Agency decides not to use available and applicable voluntary consensus standards.

In approving or disapproving state plans under section 129 of the Clean Air Act, EPA does not have the authority to revise or rewrite the State's rule, so the Agency does not have authority to require the use of particular voluntary consensus standards. Accordingly, EPA has not sought to identify or require the State to use voluntary consensus standards. Furthermore, Connecticut's Plan incorporates by reference test methods and sampling procedures for existing MWC units already established by the emissions guidelines for MWCs at 40 CFR part 60, subpart Cb, and does not establish new technical standards for MWCs. Therefore, the requirements of the NTTAA are not applicable to this final rule.

I. Petitions for Judicial Review

Under section 307(b)(1) of the Clean Air Act, petitions for judicial review of this action must be filed in the United States Court of Appeals for the appropriate circuit by June 20, 2000. Filing a petition for reconsideration by the Administrator of this final rule does not affect the finality of this rule for the purposes of judicial review, nor does it extend the time within which a petition for judicial review may be filed, and shall not postpone the effectiveness of such rule or action. This action may not be challenged later in proceedings to enforce its requirements. (See section 307(b)(2), 42 U.S.C. 7607(b)(2)). EPA encourages interested parties to comment in response to the proposed rule rather than petition for judicial review, unless the objection arises after the comment period allowed for in the proposal.

List of Subjects in 40 CFR Part 62

Administrative practice and procedure, Air pollution control, Environmental protection, Intergovernmental relations, Reporting and recordkeeping requirements, sulfur oxides.

Dated: March 31, 2000.
Mindy S. Lubber,
Regional Administrator, EPA New England.

40 CFR part 62 is amended as follows:

PART 62—[AMENDED]

1. The authority citation for part 62 continues to read as follows:

Authority: 42 U.S.C. 7401-7642.

Subpart H—Connecticut

2. Part 62 is amended by adding a new § 62.1500 and a new undesignated center heading to subpart H to read as follows:

Plan for the Control of Designated Pollutants From Existing Facilities (Section 111(d) Plan)

§ 62.1500 Identification of Plan.

(a) Identification of Plan. Connecticut Plan for the Control of Designated Pollutants from Existing Plants (section 111(d) Plan).

(b) The plan was officially submitted as follows:

(1) Plan for Implementing the Municipal Waste Combustor Guidelines and New Source Performance Standards, submitted on October 1, 1999.

(c) Designated facilities. The plan applies to existing sources, constructed on or before September 20, 1994, in the following categories of sources:

(1) Existing municipal waste combustor units greater than 250 tons per day.

3. Part 62 is amended by adding a new § 62.1501 and a new undesignated center heading to subpart H to read as follows:

Metals, Acid Gases, Organic Compounds and Nitrogen Oxide Emissions From Existing Municipal Waste Combustor Units With the Capacity To Combust Greater Than 250 Tons Per Day of Municipal Solid Waste

§ 62.1501 Identification of sources.

(a) The plan applies to the following existing municipal waste combustor facilities:

(1) Bridgeport RESCO in Bridgeport.

(2) Ogden Martin Systems of Bristol.

(3) Resource Recovery Systems of Mid-Connecticut in Hartford.

(4) Riley Energy Systems of Lisbon.

(5) American Ref-Fuel Company of Southeastern Connecticut in Preston.

(b) [Reserved]

[FR Doc. 00-9652 Filed 4-20-00; 8:45 am]

BILLING CODE 6560-50-P